DEPARTMENT OF JUSTICE

Antitrust Division

Notice Pursuant to the National Cooperative Research and Production Act of 1993—42 Volt Working Group

Notice is hereby given that, on October 4, 2000, pursuant to section 6(a) of the National Cooperative Research and Production Act of 1993, 15 U.S.C. 4301 et seq. (“the Act”), the 42 Volt Working Group has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are General Motors Corporation, Detroit, MI; DaimlerChrysler Corporation, Auburn Hills, MI; and Ford Motor Company, Dearborn, MI. The nature and objectives of the venture are to research ways to address the challenges associated with the conversion of motor vehicles to 42 volt electrical systems. The higher voltage system is expected to mitigate the negative impacts of inceasing vehicle power demands by allowing significantly smaller wires and electronics devices. The research is expected to include investigation into areas such as voltage regulation, electrical arcing, corrosion, and other topics as they relate to the conversion to 42 volt systems. To accomplish this objective, the parties are working together and with various potential suppliers to fund studies on this technology and to investigate common interfaces and performance. The parties expect to share the information generated with other suppliers and vehicle manufacturers in the future and to explore standards with industry standard-setting groups.

Constance K. Robinson,
Director of Operations, Antitrust Division.

[FR Doc. 00-30186 Filed 11-27-00; 8:45 am]

BILLING CODE 4410-11-M